DEPARTMENT OF COMMERCE

International Trade Administration

(A-549-813)

Canned Pineapple Fruit from Thailand: Notice of Final Results of Changed Circumstances Review of the Antidumping Duty Order and Revocation of Antidumping Duty Order

AGENCY: Import Administration, International Trade Administration, Department of Commerce.

SUMMARY: On March 7, 2008, the Department of Commerce (the Department) published a notice of initiation and preliminary results of a changed circumstances review and intent to revoke the antidumping duty order on canned pineapple fruit (CPF) from Thailand. See Notice of Initiation and Preliminary Results of Changed Circumstances Review, and Intent to Revoke Order, 73 FR 12377 (March 7, 2008) (Initiation and Preliminary Results). We received no comments from interested parties. Thus, we determine that changed circumstances exist to warrant revocation of the order.

EFFECTIVE DATE: (October 31, 2007)

FOR FURTHER INFORMATION CONTACT: Douglas Kirby or Myrna Lobo, AD/CVD Operations, Office 6, Import Administration, International Trade Administration, U.S. Department of Commerce, 14th Street and Constitution Avenue, NW, Washington, DC 20230; telephone: (202) 482-3782 or (202) 482-2371, respectively.

SUPPLEMENTARY INFORMATION:

Background

The Department of Commerce (the Department) published the antidumping duty order on CPF from Thailand on July 18, 1995. See Notice of Antidumping Duty Order and Amended Final Determination: Canned Pineapple Fruit from Thailand, 60 FR 36775 (July 18, 1995) (Antidumping Duty Order). On January 23, 2008, the Department received a request for a changed circumstances review from the Thai Food Processors’ Association (TFPA). The TFPA requested that the Department revoke the antidumping duty order because Maui Pineapple Company Ltd. (petitioner) ceased production of CPF on October 31, 2007. On January 25, 2008, we received a letter from petitioner indicating that it had no objection to the changed circumstances review and the revocation of the antidumping duty order. On March 7, 2008, the Department published a notice of initiation and preliminary results of a changed circumstances review and its intent to revoke the antidumping duty order on canned pineapple fruit from Thailand, effective October 31, 2007. See Initiation and Preliminary Results.

Scope of the Order

The product covered by this order is CPF, defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (HTSUS). HTSUS 2008.20.0010 covers CPF packed in a sugar-based syrup; HTSUS 2008.20.0090 covers CPF packed without added sugar (i.e., juice-packed). Although these HTSUS subheadings are provided for convenience and for customs purposes, the written description of the scope is dispositive. There have been no scope rulings for the subject order.

Final Results of Changed Circumstances Review and Revocation of Order

Pursuant to sections 751(d)(1) and 782(h)(2) of the Tariff Act of 1930, as amended (the Act), the Department may revoke an antidumping duty order based on a review under section 751(b) of the Act (i.e., a changed circumstances review). Section 751(b)(1) of the Act requires a changed circumstances review to be conducted upon receipt of a request which shows changed circumstances sufficient to warrant a review.

In the instant review, based on the information provided by the TFPA and the lack of interest on the part of the domestic industry, the Department found preliminarily that, effective October 31, 2007, the sole domestic producer of the subject merchandise, Maui Pineapple Company (Maui), was no longer producing canned pineapple fruit in the United States. See Initiation and Preliminary Results. We did not receive any comments regarding our preliminary results. Therefore, the Department is revoking the order on canned pineapple fruit from Thailand, effective October 31, 2007.

Effective Date of Revocation

Pursuant to sections 751(c)(3)(A) and 751(c)(6)(A)(iii) of the Act and 19 CFR 351.222(i)(2)(i), the Department will instruct U.S. Customs and Border Protection to terminate the suspension of liquidation of the merchandise subject to this order entered, or withdrawn from warehouse, on or after October 31, 2007. Entries of subject merchandise prior to the effective date of revocation will continue to be subject to suspension of liquidation and antidumping duty deposit requirements. The Department will complete any pending administrative reviews of this order and will conduct an administrative review of subject merchandise entered prior to the effective date of revocation in response to appropriately filed requests for review. This notice serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This determination is issued and published in accordance with sections 751(b)(1) and 777(i)(1) of the Act and 19 CFR 351.216.

Dated: April 14, 2008.
David M. Spooner,
Assistant Secretary for Import Administration.

[FR Doc. E8-8574 Filed 4-18-08; 8:45 am]

BILLING CODE 3510-DS-S